DEPARTMENT OF COMMERCE

National Oceanic and Atmospheric Administration

U.S. Integrated Ocean Observing System (IOOS®) Advisory Committee

AGENCY: National Ocean Service, National Oceanic and Atmospheric Administration (NOAA), Department of Commerce.

ACTION: Notice of open meeting (via webinar and teleconference).

SUMMARY: Notice is hereby given of a virtual meeting of the U.S. Integrated Ocean Observing System (IOOS®) Advisory Committee (Committee).

Dates and Times: The public meeting will be held on Tuesday September 24, 2013, from 10:00 a.m. to 2:30 p.m. EDT. These times and the agenda topics described below are subject to change. Refer to the Web page listed below for the most up-to-date meeting agenda.

FOR FURTHER INFORMATION CONTACT: Jessica Snowden, Alternate Designated Federal Official, U.S. IOOS Advisory Committee, U.S. IOOS Program, 1100 Wayne Ave., Suite 1225, Silver Spring, MD 20910; Phone 301-427-2453; Fax 301-427-2073; Email Jessica.snowden@noaa.gov or visit the U.S. IOOS Advisory Committee Web site at http://www.ioos.noaa.gov/advisorycommittee.

SUPPLEMENTARY INFORMATION: The IOOS Advisory Committee meeting will be held via webinar and teleconference. Members of the public who wish to participate in the meeting must register in advance by September 18, 2013. Please register by contacting Jessica Snowden, Alternate Designated Federal Official at email: Jessica.snowden@noaa.gov or tel (301) 427-2453. Webinar and teleconference information will be provided to registrants prior to the meeting. While the meeting will be open to the public, webinar and teleconference capacity may be limited.

The Committee was established by the NOAA Administrator as directed by Section 12304 of the Integrated Coastal and Ocean Observation System Act, part of the Omnibus Public Land Management Act of 2009 (Public Law 111-11). The Committee advises the NOAA Administrator and the Interagency Ocean Observation Committee (IOOC) on matters related to the responsibilities and authorities set forth in section 12302 of the Integrated Coastal and Ocean Observation System Act of 2009 and other appropriate matters as the Under Secretary refers to the Committee for review and advice.

The Committee will provide advice on:

(a) administration, operation, management, and maintenance of the System;

(b) expansion and periodic modernization and upgrade of technology components of the System;

(c) identification of end-user communities, their needs for information provided by the System, and the System's effectiveness in dissemination information to end-user communities and to the general public; and

(d) any other purpose identified by the Under Secretary of Commerce for Oceans and Atmosphere or the Interagency Ocean Observation Committee.

The meeting will be open to public participation with a 15-minute public comment period on September 24, 2013, from 2:15 p.m. to 2:30 p.m. (check agenda on Web site to confirm time.) The Committee expects that public statements presented at its meetings will not be repetitive of previously submitted verbal or written statements. In general, each individual or group making a verbal presentation will be limited to a total time of three (3) minutes. Written comments should be received by the Designated Federal Official by September 16, 2013 to provide sufficient time for Committee review. Written comments received after September 16, 2013, will be distributed to the Committee, but may not be reviewed prior to the meeting date.

Matters To Be Considered: The meeting will focus on discussing various business investment models for consideration by U.S. IOOS. The agenda is subject to change. The latest version will be posted at http://www.ioos.noaa.gov/advisorycommittee.

Dated: August 30, 2013.
Christopher C. Cartwright,
Associate Assistant Administrator for Management and CFO/CAO, National Ocean Service, National Oceanic and Atmospheric Administration.

[FR Doc. 2013-21805 Filed 9-6-13; 8:45 am]

BILLING CODE 3510-22-P